DEPARTMENT OF DEFENSE

Office of the Secretary

[Docket No. DoD-2007-OS-0093]

Submission for OMB Review; Comment Request

ACTION: Notice.

The Department of Defense has submitted to OMB for clearance, the following proposal for collection of information under the provisions of the Paperwork Reduction Act (44 U.S.C. Chapter 35).

DATES: Consideration will be given to all comments received by April 30, 2008.

Title, Form, and OMB Number: “Department of Defense Security Agreement” “Appendage to Department of Defense Security Agreement” “Certificate Pertaining to Foreign Interests”; DD Forms 441, 441-1 and SF 328; OMB Control Number 0704-0194.

Type of Request: Revision.

Number of Respondents: 2,641.

Responses per Respondent: 2.

Annual Responses: 5,282.

Average Burden per Response: 1.56 hours.

Annual Burden Hours: 8,240.

Needs and Uses: Executive Order (EO) 12829, “National Industrial Security Program (NISP)” stipulates that the Secretary of Defense shall serve as the Executive Agent for inspecting and monitoring the contractors, licensees, and grantees who require or will require access to or who store or will store classified information; and for determining the eligibility for access to classified information of contractors, licensees, and grantees and their respective employees. The specific requirements necessary to protect classified information released to private industry are set forth in DoD 5200.22-M. “National Industrial Security Program Operating Manual (NISPOM).” Respondents must execute DD Form 441, “Department of Defense Security Agreement,” which is the initial contract between industry and the government. This legally binding document details the responsibility of both parties and obligates the contractor to fulfill requirements outlined in DoD 5220.22-M. The DD Form 441-1, “Appendage to Department of Defense Security Agreement,” is used to extend the agreement to branch offices of the contractor. SF Form 328, “Certificate Pertaining to Foreign Interests” must be submitted to provide certification regarding elements of Foreign Ownership, Control or Influence (FOCI) as stipulated in paragraph 2-302b of the DoD 5220.22-M.

Affected Public: Business or other for-profit; not-for-profit institutions; state, local, or tribal government.

Frequency: On occasion.

Respondent's Obligation: Required to obtain or retain benefits.

OMB Desk Officer: Ms. Sharon Mar.

Written comments and recommendations on the proposed information collection should be sent to Ms. Mar at the Office of Management and Budget, Desk Officer for DoD, Room 10236, New Executive Office Building, Washington, DC 20503. Comments may be e-mailed to Ms. Mar at Sharon_Mar@omb.eop.gov.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: March 24, 2008.
Patricia L. Toppings,
Alternate OSD Federal Register Liaison Officer, Department of Defense.

[FR Doc. E8-6528 Filed 3-28-08; 8:45 am]

BILLING CODE 5001-06-P